DEPARTMENT OF ENERGY

Federal Energy Regulatory Commission

Combined Notice of Filings #1

Take notice that the Commission received the following electric rate filings:

Docket Numbers: ER11-3028-001.

Applicants: BBPC, LLC.

Description: BBPC, LLC submits tariff filing per 35.17(b): BBPC LLC Substitute MBR Tariff to be effective 5/16/2011.

Filed Date: 04/14/2011.

Accession Number: 20110414-5149.

Comment Date: 5 p.m. Eastern Time on Thursday, May 05, 2011.

Docket Numbers: ER11-3061-000.

Applicants: Carolina Power & Light Company.

Description: Joint Motion of Carolina Power & Light Company and Duke Energy Carolinas, LLC to Add the Latter as Co-Applicant on Pending Request for a Limited Waiver of Market-Based Tariff Restrictions.

Filed Date: 04/14/2011.

Accession Number: 20110414-5169.

Comment Date: 5 p.m. Eastern Time on Thursday, April 28, 2011.

Docket Numbers: ER11-3187-001.

Applicants: SBR Energy, LLC.

Description: SBR Energy, LLC submits tariff filing per 35.17(b): Amending Baseline New to be effective 5/1/2011.

Filed Date: 04/14/2011.

Accession Number: 20110414-5016.

Comment Date: 5 p.m. Eastern Time on Thursday, May 05, 2011.

Docket Numbers: ER11-3350-000.

Applicants: Public Service Company of Colorado.

Description: Public Service Company of Colorado submits tariff filing per 35.13(a)(2)(iii: 2011-4-14_297-PSCo_Gunbarrel COM Agmt to be effective 2/16/2011.

Filed Date: 04/14/2011.

Accession Number: 20110414-5078.

Comment Date: 5 p.m. Eastern Time on Thursday, May 05, 2011.

Docket Numbers: ER11-3351-000.

Applicants: ISO New England Inc.

Description: ISO New England Inc. submits tariff filing per 35.13(a)(2)(iii: Conforming MR1—Appendix A Tariff Record to be effective 3/16/2011.

Filed Date: 04/14/2011.

Accession Number: 20110414-5090.

Comment Date: 5 p.m. Eastern Time on Thursday, May 05, 2011.

Docket Numbers: ER11-3352-000.

Applicants: Public Service Electric and Gas Company, PJM Interconnection, L.L.C.

Description: Public Service Electric and Gas Company submits tariff filing per 35.13(a)(2)(iii: PSE&G's Request for Incentive Rates for 5 Baseline Transmission Projects to be effective 6/14/2011.

Filed Date: 04/14/2011.

Accession Number: 20110414-5119.

Comment Date: 5 p.m. Eastern Time on Thursday, May 05, 2011.

Docket Numbers: ER11-3353-000.

Applicants: Alpha Gas and Electric.

Description: Alpha Gas and Electric submits tariff filing per 35.13(a)(2)(iii: Market based rate tariff database to be effective 4/15/2011.

Filed Date: 04/14/2011.

Accession Number: 20110414-5130.

Comment Date: 5 p.m. Eastern Time on Thursday, May 05, 2011.

Docket Numbers: ER11-3354-000.

Applicants: Rockpile Energy LP.

Description: Rockpile Energy LP submits tariff filing per 35.15: Notice of Cancellation of Market-Based Rate Tariff to be effective 4/15/2011.

Filed Date: 04/14/2011.

Accession Number: 20110414-5147.

Comment Date: 5 p.m. Eastern Time on Thursday, May 05, 2011.

Docket Numbers: ER11-3355-000.

Applicants: Energy Endeavors LP.

Description: Energy Endeavors LP submits tariff filing per 35.15: Notice of Cancellation of Market-Based Rate Tariff for Energy Endeavors LP to be effective 4/15/2011.

Filed Date: 04/14/2011.

Accession Number: 20110414-5148.

Comment Date: 5 p.m. Eastern Time on Thursday, May 05, 2011.

Docket Numbers: ER11-3356-000.

Applicants: Gotham Energy Marketing LP.

Description: Gotham Energy Marketing LP submits tariff filing per 35.15: Notice of Cancellation of Market Based Rate Tariff for Gotham Energy Marketing LP to be effective 4/15/2011.

Filed Date: 04/14/2011.

Accession Number: 20110414-5150.

Comment Date: 5 p.m. Eastern Time on Thursday, May 05, 2011.

Docket Numbers: ER11-3357-000.

Applicants: Big Bog Energy LP.

Description: Big Bog Energy LP submits tariff filing per 35.15: Notice of Cancellation of Market-Based Rate Tariff for Big Bog Energy LP to be effective 4/15/2011.

Filed Date: 04/14/2011.

Accession Number: 20110414-5151.

Comment Date: 5 p.m. Eastern Time on Thursday, May 05, 2011.

Docket Numbers: ER11-3358-000.

Applicants: Coaltrain Energy LP.

Description: Coaltrain Energy LP submits tariff filing per 35.15: Notice of Cancellation of Market-Based Rate Tariff for Coaltrain Energy LP to be effective 4/15/2011.

Filed Date: 04/14/2011.

Accession Number: 20110414-5152.

Comment Date: 5 p.m. Eastern Time on Thursday, May 05, 2011.

Docket Numbers: ER11-3359-000.

Applicants: Silverado Energy LP.

Description: Silverado Energy LP submits tariff filing per 35.15: Notice of Cancellation of Market-Based Rate Tariff for Silverado Energy LP to be effective 4/15/2011.

Filed Date: 04/14/2011.

Accession Number: 20110414-5153.

Comment Date: 5 p.m. Eastern Time on Thursday, May 05, 2011.

Take notice that the Commission received the following open access transmission tariff filings:

Docket Numbers: OA08-111-003.

Applicants: Portland General Electric Company.

Description: Compliance Filing of Portland General Electric Company.

Filed Date: 04/14/2011.

Accession Number: 20110414-5064.

Comment Date: 5 p.m. Eastern Time on Thursday, May 05, 2011.

Take notice that the Commission received the following qualifying facility filings:

Docket Numbers: QF11-222-000.

Applicants: Harris Teeter, Inc.

Description: Form 556—Notice of Self-Certification of Qualifying Cogeneration Facility Status.

Filed Date: 04/13/2011.

Accession Number: 20110413-5168.

Comment Date: None Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 15, 2011.
Nathaniel J. Davis, Sr.,
Deputy Secretary.

[FR Doc. 2011-9776 Filed 4-21-11; 8:45 am]

BILLING CODE 6717-01-P